DEPARTMENT OF COMMERCE

International Trade Administration

A-570-863

Honey from the People's Republic of China: Notice of Extension of Time Limit for the Preliminary Results of the Antidumping Duty Administrative Review

AGENCY: Import Administration, International Trade Administration, Department of Commerce.

EFFECTIVE DATE: August 16, 2006.

FOR FURTHER INFORMATION CONTACT: Helen Kramer or Judy Lao, AD/CVD Operations, Office 7, Import Administration, International Trade Administration, U.S. Department of Commerce, 14th Street and Constitution Avenue, NW, Washington, DC 20230; telephone: 202-482-0405 and 202-482-7924, respectively.

SUPPLEMENTARY INFORMATION:

Background

On February 1, 2006, the Department of Commerce (“the Department”) published the initiation of the administrative review of the antidumping duty order on honey from the People's Republic of China (“PRC”). See Notice of Initiation of Antidumping and Countervailing Duty Administrative Reviews and Request for Revocation in Part, 71 FR 5241 (February 1, 2006). This review covers the period December 1, 2004, through November 30, 2005. The preliminary results of review are currently due no later than September 5, 2006.

Extension of Time Limit for Preliminary Results of Review

Pursuant to section 751(a)(3)(A) of the Tariff Act of 1930, as amended (“the Act”), the Department shall make a preliminary determination in an administrative review of an antidumping duty order within 245 days after the last day of the anniversary month of the date of publication of the order. The Act further provides that the Department may extend that 245-day period to 365 days if it determines it is not practicable to complete the review within the foregoing time period. See Section 751(a)(3)(A) of the Act.

Completion of the preliminary results within the 245-day period is not practicable because of the Department's verification schedule of the companies involved in this administrative review. It is also more practicable to align this administrative review with an ongoing new shipper review of honey from PRC. See Honey from the People's Republic of China: Notice of Extension of Time Limit for the Preliminary Results of New Shipper Review, 71 FR 37904 (July 3, 2006). Therefore, in accordance with section 751(a)(3)(A) of the Act, the Department is extending the time period for completion of the preliminary results of this review by 80 days until November 21, 2006.

This notice is published in accordance with sections 751(a)(3)(A) and 777(i) of the Act.

Dated: August 9, 2006.
Stephen J. Claeys,
Deputy Assistant Secretary for Import Administration.

[FR Doc. E6-13467 Filed 8-15-06; 8:45 am]

BILLING CODE 3510-DS-S